DEPARTMENT OF THE INTERIOR

Bureau of Land Management

[LLNV912000.L16400000.PH0000.006F 241A; 11-08807; TAS: 14X1109]

Notice of Cancellation of Public Meeting: Resource Advisory Councils, Nevada

AGENCY: Bureau of Land Management, Interior.

ACTION: Notice of Cancellation of Public Meeting.

SUMMARY: The Department of the Interior, Bureau of Land Management (BLM) Nevada has cancelled a joint meeting of its three Resource Advisory Councils (RACs) previously scheduled to be held on November 4 and 5, 2010 in Sparks, Nevada. The meeting will be rescheduled in early 2011.

FOR FURTHER INFORMATION CONTACT: Rochelle Francisco, telephone: (775) 861-6588, e-mail: rochelle_francisco@blm.gov.

SUPPLEMENTARY INFORMATION: The Nevada RACs advise the Secretary of the Interior, through the BLM Nevada State Director, on a variety of planning and management issues associated with public land management in Nevada.

Dated: October 21, 2010.
Doran Sanchez,
Chief, Office of Communications, BLM Nevada.

[FR Doc. 2010-27355 Filed 10-28-10; 8:45 am]

BILLING CODE 4310-HC-P